DEPARTMENT OF DEFENSE

Department of the Army, Corps of Engineers

Notice of Intent To Prepare an Environmental Impact Statement (EIS) for the Arkansas River Navigation Study, Arkansas and Oklahoma

AGENCY: U.S. Army Corps of Engineers, Department of Defense.

ACTION: Notice of intent.

SUMMARY: Pursuant to the National Environmental Policy Act (NEPA), the U.S. Army Corps of Engineers, DoD, Little Rock District will prepare an Environmental Impact Statement (EIS) for the Arkansas River Navigation Study.

The purpose of the EIS will be to present alternatives and assess the impacts associated with the Arkansas River Navigation Study. Under direction of the U.S. Congress, the U.S. Army Corps of Engineers (USACE) is conducting a study of the Arkansas River Basin in Arkansas and Oklahoma. The study purpose is to develop and evaluate alternatives for implementing solutions to problems resulting from sustained high flows on the McClellan-Kerr Arkansas River Navigation System (MKARNS). These high flows have resulted in decreased navigation traffic, flooding, losses to recreation use, and other adverse conditions. Proposed improvements resulting from the study could impact (positively or negatively) agriculture, hydropower, recreation, flood control, and fish and wildlife along the MKARNS.

The EIS will evaluate potential impacts (positive and negative) to the natural, physical, and human environment as a result of implementing any of the proposed project alternatives. Proposed alternatives are currently being developed and include structural and non-structural measures for reducing sustained high flows on the MKARNS.

Elements of the structural alternatives identified to date include:

1. Removal of channel restrictions,

2. Construction of high flow relief structures (e.g. spillways) along the MKARNS for navigation flow management,

3. Construction of additional levees along the MKARNS for navigation flow management,

4. In-stream modification/alteration of existing navigation structures,

5. Restoration/enhancement of aquatic and riparian habitats along the MKARNS.

Elements of the non-structural alternatives identified to date include:

1. Operational changes to MKARNS reservoirs resulting in changes in the flow regime within the Arkansas River,

2. Adjustments/increases in flowage easements.

FOR FURTHER INFORMATION CONTACT: Questions or comments concerning the proposed action should be addressed to: Mr. Jim Ellis, Environmental Team Leader, Planning Branch, P.O. Box 867, Little Rock, Arkansas 72203-0867, Telephone 501-324-5033, e-mail: James.D.Ellis@usace.army.mil.

SUPPLEMENTARY INFORMATION:

1. MKARNS

The McClellan-Kerr Arkansas River Navigation System consists of a series of 18 locks and dams (17 existing and 1 currently under construction) and provides navigation from the Mississippi River to the Port of Catoosa near Tulsa, Oklahoma. River flow in the Arkansas River is modified primarily by 11 reservoirs in Oklahoma. The reservoirs are: Keystone, Oologah, Pensacola, Hudson, Fort Gibson, Tenkiller Ferry, Eufaula, Kaw, Hulah, Copan, and Wister. These lakes provide flood control, water supply, hydropower, fish & wildlife, water quality, recreation, and other benefits.

2. Study History

The Arkansas River Navigation Study is being undertaken by USACE Little Rock and Tulsa Districts under the direction of the U.S. Congress. The study includes major hydraulics investigations, economics analyses, alternatives development and related analyses in addition to the EIS. Throughout May and June of 2000 the USACE conducted public information meetings at locations throughout Arkansas and Oklahoma to inform the public of the Arkansas River Navigation Study and solicit information regarding the study.

3. Comments/Scoping Meeting

Interested parties are requested to express their views concerning the proposed activity. The public is encouraged to provide written comments in addition to or in lieu of, oral comments at the scoping meeting. To be most helpful, scoping comments should clearly describe specific environmental topics or issues, which the commentator believes the document should address. Oral and written comments receive equal consideration.

Scoping meetings will be held with government agencies and with the public. Public Scoping Meetings will be held in the fall of 2000 in Pine Bluff Arkansas, Fort Smith Arkansas, and Tulsa Oklahoma. The location, time, and date will be published at least 14 days prior to each scoping meeting. Comments received as a result of this notice and the news releases will be used to assist the Districts in identifying potential impacts to the quality of the human or natural environment. Affected local, state, or Federal agencies, affected Indian Tribes, and other interested private organizations and parties may participate in the Scoping process by forwarding written comments to the above noted address. Interested parties may also request to be included on the mailing list for public distribution of meeting announcements and documents.

4. Alternatives/Issues

The EIS will evaluate the effects of structural and non-structural alternatives of the authorized project and other identified concerns. Specific project alternatives will incorporate the elements previously identified in this notice. Anticipated significant issues identified to date and to be addressed in the EIS include: (1) Impacts on navigation, (2) impacts on flood control, (3) impacts on hydropower, (4) impacts on recreation and recreation facilities, (5) impacts on river hydraulics, (6) impacts on fish and wildlife resources and habitats, and (7) other impacts identified by the Public, agencies or USACE studies.

5. Availability of the Draft EIS

The Draft Environmental Impact Statement is anticipated to be available for public review in the spring of 2002 subject to the receipt of federal funding.

6. Authority

The River and Harbor Act of 1946 authorized the development of the Arkansas River and its tributaries for the purposes of navigation, flood control, hydropower, water supply, recreation, and fish and wildlife. Public Law 91-649 stated that the project would be known as the McClellan-Kerr Arkansas River Navigation System. The Arkansas River Navigation Study began as a Fiscal Year (FY99) Congressional Add to investigate flooding problems along the Arkansas River in Crawford and Sebastian Counties in the vicinity of Fort Smith, Arkansas.

Thomas A. Holden, Jr.,
Colonel, Corps of Engineers, District Engineer.

[FR Doc. 00-21447 Filed 8-22-00; 8:45 am]

BILLING CODE 3710-57-U